DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by May 20, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-054813

Applicant: Donald O. Allen, Powhatan, VA

The applicant requests a permit to import the sport-hunted trophy of one male bontebok (Damaliscus pygargus dorcas) culled from a captive herd maintained under the management program of the Republic of South Africa, for the purpose of enhancement of the survival of the species.

PRT-054314

Applicant: Jose N. Caballero, Hialean, FL

The applicant requests a permit to import the sport-hunted trophy of one male bontebok (Damaliscus pygargus dorcas) culled from a captive herd maintained under the management program of the Republic of South Africa, for the purpose of enhancement of the survival of the species.

PRT-054871

Applicant: Brandon Glen McGraw, Granbury, TX

The applicant requests a permit to import the sport-hunted trophy of one male bontebok (Damaliscus pygargus dorcas) culled from a captive herd maintained under the management program of the Republic of South Africa, for the purpose of enhancement of the survival of the species.

PRT-053985

Applicant: Saint Louis Zoo, Saint Louis, MO

The applicant requests a permit to import biological samples from various lemur species (Eulemur sp.) collected in the wild in Madagascar for the purpose of scientific research. This notification covers activities conducted by the applicant over a five year period.

PRT-809347 & 809349

Applicant: Hawthorn Corporation, Grayslake, IL

The applicant requests the re-issuance of their permits to re-export and re-import Asian elephants (Elephas maximus) and progeny of the animals currently held by the applicant and any animals acquired in the United States by the applicant to/from worldwide locations to enhance the survival of the species through conservation education. This notification covers activities conducted by the applicant over a three year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18). Written data, comments, or requests for copies of the complete applications or requests for a public hearing on these applications should be submitted to the Director (address above). Anyone requesting a hearing should give specific reasons why a hearing would be appropriate. The holding of such a hearing is at the discretion of the Director.

PRT-054026

Applicant: Hubbs-Sea World Research Institute, San Diego, CA

Permit Type: Take for scientific research.

Name and Number of Animals: West Indian manatee (Trichechus manatus latirostris); 33.

Summary of Activity to be Authorized: The applicant requests a permit to conduct scientific research with 13 captive-held animals and 20 wild animals involving measuring the animals' sonar acoustic reflectivity.

Source of Marine Mammals: Captive-held animals at Sea World of San Diego and Orlando; wild animals in the Indian River Lagoon, Brevard County, Florida.

Period of Activity: Up to 2 years after issuance of permit.

Concurrent with the publication of this notice in the Federal Register, the Division of Management Authority is forwarding copies of the above application to the Marine Mammal Commission and the Committee of Scientific Advisors for their review.

The U.S. Fish and Wildlife Service has information collection approval from OMB through March 31, 2004, OMB Control Number 1018-0093. Federal Agencies may not conduct or sponsor and a person is not required to respond to a collection of information unless it displays a current valid OMB control number.

Dated: March 28, 2002.
Anna Barry,
Senior Permit Biologist, Branch of Permits, Division of Management Authority.

[FR Doc. 02-9476 Filed 4-17-02; 8:45 am]

BILLING CODE 4310-55-P